DEPARTMENT OF COMMERCE

International Trade Administration

[A-580-897]

Large Diameter Welded Pipe From the Republic of Korea: Final Results of Antidumping Duty Administrative Review; 2022-2023

AGENCY: Enforcement and Compliance, International Trade Administration, Department of Commerce.

SUMMARY: The U.S. Department of Commerce (Commerce) determines that large diameter welded pipe (welded pipe) from the Republic of Korea (Korea) was not sold in the United States at prices below normal value during the period of review (POR) May 1, 2022, through April 30, 2023.

DATES: Applicable December 13, 2024.

FOR FURTHER INFORMATION CONTACT: Katerina Katsiadas or Brian Smith, AD/CVD Operations, Office VIII, Enforcement and Compliance, International Trade Administration, U.S. Department of Commerce, 1401 Constitution Avenue NW, Washington, DC 20230; telephone: (202) 482-4929 or (202) 482-1766, respectively.

SUPPLEMENTARY INFORMATION:

Background

On June 3, 2024, Commerce published the Preliminary Results in the Federal Register.¹ This administrative review covers 23 producers and/or exporters of the subject merchandise, including Hyundai Steel Company (Hyundai Steel) and SeAH Steel Corporation (SeAH), which were selected for individual examination as mandatory respondents. For the events that occurred since the Preliminary Results, see the Issues and Decision Memorandum.² Commerce conducted this review in accordance with section 751(a)(1)(B) of the Tariff Act of 1930, as amended (the Act).

¹ See Large Diameter Welded Pipe from the Republic of Korea: Preliminary Results of Antidumping Administrative Review; 2022-2023, 89 FR 47523 (June 3, 2024) (Preliminary Results).

² See Memorandum, “Issues and Decision Memorandum for the Final Results of the Administrative Review of the Antidumping Duty Order on Large Diameter Welded Pipe from the Republic of Korea; 2022-2023,” dated concurrently with, and hereby adopted by, this notice (Issues and Decision Memorandum).

Scope of the Order ³

³ See Large Diameter Welded Pipe from the Republic of Korea: Amended Final Affirmative Antidumping Determination and Antidumping Duty Order, 84 FR 18767 (May 2, 2019) (Order).

The merchandise covered by the Order is welded pipe from Korea. For a complete description of the scope of the Order, see the Issues and Decision Memorandum.

Analysis of Comments Received

We addressed all issues raised in the case and rebuttal briefs filed in this administrative review in the Issues and Decision Memorandum. A list of topics included in the Preliminary Decision Memorandum is attached in Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade/gov/public/FRNoticesListLayout.aspx.

Changes Since the Preliminary Results

Based on our evaluation of the comments received from interested parties regarding our Preliminary Results and our review of the record to address those comments, we made certain changes to the weighted-average dumping margin calculations for Hyundai Steel and SeAH, as detailed in the Issues and Decision Memorandum.⁴

⁴ See Issues and Decision Memorandum at “Section IV. Changes Since the Preliminary Results.”

Final Results of Review

We determine that the following estimated weighted-average dumping margins exist for the period May 1, 2022 through April 30, 2023:

Exporter/producer | Weighted-average dumping margin (percent)
Hyundai Steel Company ⁵ | 0.00
SeAH Steel Corporation | 0.00
Review-Specific Rate for Non-Examined Companies ⁶ | 0.00

Disclosure

⁵ On November 14, 2024, Commerce determined that Hyundai Steel Pipe Co., Ltd. is the successor-in-interest to Hyundai Steel Company. See Circular Welded Non-Alloy Steel Pipe from the Republic of Korea; Certain Oil Country Tubular Goods from the Republic of Korea; Welded Line Pipe From the Republic of Korea; and Large Diameter Welded Pipe from the Republic of Korea: Notice of Final Results of Antidumping Duty Changed Circumstances Reviews, 89 FR 89962 (November 14, 2024).

⁶ See Appendix II.

We intend to disclose the calculations performed for these final results of review to interested parties within five days of the date of publication of this notice in the Federal Register, in accordance with 19 CFR 351.224(b).

Assessment Rates

Commerce has determined, and U.S. Customs and Border Protection (CBP) shall assess, antidumping duties on all appropriate entries of subject merchandise in accordance with section 751(a)(2)(C) of the Act and 19 CFR 351.212(b). Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Because the final weighted-average dumping margins for all respondents in this review are zero, we intend to instruct CBP to liquidate the appropriate entries without regard to antidumping duties.⁷ Consistent with Commerce's clarification of its assessment practice, for entries of subject merchandise during the POR produced by Hyundai Steel or SeAH where it did not know that the merchandise was destined for the United States, we will instruct CBP to liquidate those entries at the all-others rate established in the original less-than-fair-value (LTFV) investigation of 7.08 percent ad valorem,⁸ if there is no rate for the intermediate company(ies) involved in the transaction.⁹

⁷ See 19 CFR 351.106(c)(2).

⁸ See Order, 84 FR at 18769.

⁹ For a full discussion of this practice, see Antidumping and Countervailing Duty Proceedings: Assessment of Antidumping Duties, 68 FR 23954 (May 6, 2003).

Cash Deposit Requirements

The following deposit requirements will be effective for all shipments of the subject merchandise entered, or withdrawn from warehouse, for consumption on or after the publication date of the final results of this administrative review, as provided by section 751(a)(2)(C) of the Act: (1) the cash deposit rates for Hyundai Steel and SeAH will be equal to the weighted-average dumping margins established in the final results of this administrative review; (2) for merchandise exported by a producer or exporter not covered in this review but covered in a prior segment of the proceeding, the cash deposit rate will continue to be the company-specific rate published for the most recently completed segment of this proceeding in which the producer or exporter participated; (3) if the exporter is not a firm covered in this review, a prior review, or the original LTFV investigation, but the producer is, the cash deposit rate will be the rate established for the most recently completed segment of the proceeding for the producer of the merchandise; and (4) the cash deposit rate for all other producers and exporters will continue to be 7.08 percent ad valorem, the all-others rate established in the LTFV investigation.¹⁰ These cash deposit requirements, when imposed, shall remain in effect until further notice.

¹⁰ See Order, 84 FR at 18769.

Notification to Importers Regarding the Reimbursement of Duties

This notice also serves as a final reminder to importers of their responsibility under 19 CFR 351.402(f)(2) to file a certificate regarding the reimbursement of antidumping and/or countervailing duties prior to liquidation of the relevant entries during this POR. Failure to comply with this requirement could result in Commerce's presumption that reimbursement of antidumping and/or countervailing duties has occurred and the subsequent assessment of double antidumping duties, and/or increase in the amount of antidumping duties by the amount of the countervailing duties.

Notification Regarding Administrative Protective Order

This notice also serves as a reminder to parties subject to administrative protective orders (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing this notice in accordance with sections 751(a)(1) and 777(i)(1) of the Act, and 19 CFR 351.221(b)(5).

Dated: December 6, 2024.
Abdelali Elouaradia,
Deputy Assistant Secretary for Enforcement and Compliance.

Appendix I—List of Topics Discussed in the Issues and Decision Memorandum

I. Summary

II. Background

III. Scope of the Order

IV. Changes Since the Preliminary Results

V. Discussion of the Issues

Comment 1: Whether to Apply a Major Input Adjustment to the Cost of SeAH's Hot Rolled Coil (HRC)

Comment 2: Whether to Reclassify the Costs Assigned to SeAH's Headquarters

Comment 3: Whether to Adjust SeAH's Reported Scrap Offset

Comment 4: State Pipe & Supply Inc.'s (State Pipe's) General and Administrative (G&A) Expense Ratio Calculation

Comment 5: Whether to Calculate State Pipe's G&A Expenses on a Company-Wide Basis

Comment 6: Whether to Apply State Pipe's Financial and G&A Ratios to Per-Unit Costs on the Same Basis as the Denominator Used to Calculate the Ratios

Comment 7: Whether to Revise State Pipe's Reported Indirect Selling Expenses to Include the Full G&A Expense Amount Incurred

Comment 8: Whether to Include Certain Omitted Costs in Hyundai Steel's G&A Expenses

Comment 9: Whether to Exclude Investment Related Accounts From Hyundai Steel's Net Interest Expenses

VI. Recommendation

Appendix II—Companies Not Selected for Individual Review

1. AJU Besteel Co., Ltd.

2. Chang Won Bending Co., Ltd.

3. Daiduck Piping Co., Ltd.

4. Dong Yang Steel Pipe Co., Ltd.

5. Dongbu Incheon Steel Co., Ltd.

6. EEW KHPC Co., Ltd.

7. EEW Korea Co., Ltd.

8. Geumok Tech. Co. Ltd.

9. Hansol Metal Co. Ltd.

10. HiSteel Co., Ltd.

11. Husteel Co., Ltd.

12. Hyundai RB Co., Ltd.

13. Il Jin Nts Co. Ltd.

14. Kiduck Industries Co., Ltd.

15. Kum Kang Kind. Co., Ltd.

16. Kumsoo Connecting Co., Ltd.

17. Nexteel Co., Ltd.

18. Seonghwa Industrial Co., Ltd.

19. SIN-E B&P Co., Ltd.

20. Steel Flower Co., Ltd.

21. WELTECH Co., Ltd.

[FR Doc. 2024-29318 Filed 12-12-24; 8:45 am]

BILLING CODE 3510-DS-P